DEPARTMENT OF TRANSPORTATION

Federal Aviation Administration

14 CFR Part 71

[Airspace Docket No. 00-AWP-8]

Modification of Class E Airspace; Willits, CA

AGENCY: Federal Aviation Administration (FAA), DOT.

ACTION: Final Rule, correction.

SUMMARY: This action corrects an error in the radial distance of the 1,200 foot airspace area of a Final Rule that was published in the Federal Register on November 2, 2000 (65 FR 65731), Airspace Docket No. 00-AWP-8.

EFFECTIVE DATE: 0901 UTC January 25, 2001.

FOR FURTHER INFORMATION CONTACT: Jeri Carson, Airspace Specialist, Airspace Branch, AWP-520, Air Traffic Division, Western-Pacific Region, Federal Aviation Administration, 15000 Aviation Boulevard, Lawndale, California, 90261, telephone (310) 725-6611.

SUPPLEMENTARY INFORMATION:

History

Federal Register Document 00-28188, Airspace Docket No. 00-AWP-8, published on April 20, 1998 (65 FR 65731), revised the geographic coordinates and radial distance of the Class E airspace area at Willits, CA. A typographical error was discovered in the radial distance of the 1,200 foot airspace area for the Willits, CA, Class E airspace area. This action corrects those errors.

Correction to Final Rule

Accordingly, pursuant to the authority delegated to me, for the Class E airspace area at Willits, CA, as published in the Federal Register on November 2, 2000 (65 FR 65731), (Federal Register Document 00-28188; page 65732, column 2 is corrected as follows:

§ 71.1 [Corrected]

* * * * *

AWP CA E5 Willits, CA [Corrected]

Ells Field-Willits Municipal Airport, CA

(lat. 39°27′03″N, long. 123°22′20″W)

By removing “(and that airspace extending upward from 1,200 feet above the surface with a 39-mile radius of the Ells Field-Willits Municipal Airport.)” and substituting “(and that airspace extending upward from 1,200 feet above the surface within a 38-mile radius of the Ells Field-Willits Municipal Airport)”.

* * * * *

John Clancy,
Manager, Air Traffic Division, Western-Pacific Region.

[FR Doc. 00-32884 Filed 12-26-00; 8:45 am]

BILLING CODE 4910-13-M